DEPARTMENT OF JUSTICE

National Institutes of Corrections

Solicitation for a Cooperative Agreement

SUMMARY: The Department of Justice (DOJ), National Institute of Corrections (NIC), announces the availability of funds in FY 2002 for a cooperative agreement to fund the project “Effectively Managing a Multi-Generational Workforce.” NIC will award one cooperative agreement to: develop a training curriculum for correctional supervisors on how to manage a multi-generational workforce; develop a Training-for-Trainers component on how to teach that curriculum and develop a two-hour portable training module on effectively managing a multi-generational workforce.

A cooperative agreement is a form of assistance relationship where the National Institute of Corrections is substantially involved during the performance of the award. An award will be made to an organization that will, in concert with the Institute, develop a curriculum and training materials for effectively managing a multi-generational workforce which may be utilized by operational and training personnel within a correctional agency.

Background

The National Institute of Corrections, Prisons Division, sponsored a series of meetings during FY 2001 to discuss issues and problems regarding the correctional workforce. One of the topics which emerged in every meeting was how difficult it was for Correctional Supervisors to manage and motivate the new workers coming into correctional agencies. Likewise, in a variety of NIC training programs over the past few years, workforce issues—especially those involving the newer groups of workers entering the workforce—have predominated in many training programs regardless of the topic.

According to the Bureau of Labor Statistics, within the next decade 33% of the workforce will be older than 55 years of age. In the corrections workplace, the predominance of hazardous duty retirement benefit and other public sector retirement systems will mean that many of this country's correctional workers will be drawn from the Generation X (typically considered as those born between 1965 and 1976) and Generation Y (generally those born in or after 1977) demographic groups. Many supervisors, managers and administrators will still be from the large Baby Boomer generations (born between 1946-1964).

Although many “Baby Boomers” supervisors lament the poor work attitudes of the “new” workforce, those newer workers are equally unsatisfied with their supervisors being “stuck in the past” and unwilling to look at alternatives ways of doing things. With projected shortages of staff in all business sectors, not just corrections, there could be other interesting “generational differences” emerging in the workplace—for instance, retirees returning to the workforce.

These, and many other generational differences, become quite prominent and critical in the correctional workplace. Yet providing information and understanding of the generational characteristics of various workforce groups can assist in assuring that workplace practices are most effective. Supervisors can be trained on effective supervisory practices—whether with a younger workforce or any other group of employees. Workplace attitudes, policies and procedures can be re-evaluated to assure that they are effective for the current workforce recognizing that over time there will be changing trends among those who comprise the workforce.

Purpose

To develop training materials for supervisory and management staff in the correctional workplace to assist them in effectively managing a multi-generational workforce.

Scope of Work

The awardee will research the existing training materials and management literature in all areas relating to a multi-generational workforce (including Generation X, Generation Y, Baby Boomers, retirees and any other relevant workforce groupings or designations) as well as from training and management resources in the field of corrections, and will complete the following tasks:

1. To develop a 16-hour training program/curriculum targeted to correctional supervisors and managers on how to most effectively work with and supervise a multi-generational workforce. The awardee will have base the development of all training materials on research which has been done on the trends and characteristics of the various demographic workgroups. The training program should include: instructors guide with all lesson plans, handouts, power point presentations, classroom exercises, relevant audio-visual videotapes and any other relevant information; and a participant handbook with all relevant reading materials, classroom exercises and other materials identified by the awardee as helpful in the training process. Copyrighted materials should have written permission for use or other materials need to be identified.

2. To develop an 8 hour Training-for-Trainers (T-for-T) program to prepare correctional trainers to deliver the curriculum developed for “Effectively Managing a Multi-generational Workforce.” The T-for-T Program should include lesson plans and all relevant materials.

3. To develop a 2-hour training module which is portable and can “stand alone” to be used in various NIC training programs on the characteristics of the workforce from different generations and what correctional managers need to know to work effectively with the different generations. Relevant readings, lesson plans, tapes and other help materials should be included.

4. Materials should be prepared in consultation with NIC and an edited, final, camera-ready copy of all materials presented to NIC for publication in accordance with the NIC Preparation of Printed Materials for Publication. All products from this funding effort will be in the public domain and available to interested parties through the National Institute of Corrections. Any copyrighted material must have written permission that it can be used as part of this training program.

Specific Requirements

1. “Multi-generational workforce” will include those persons in the correctional workforce who are frequently referred to in the human resource and management literature as Generation X workers, Generation Y workers, the next generation or the new, younger workforce who bring different values to the work setting. It will also include workers who have retired and are returning to the workforce. Although the demographics suggest that most correctional managers are from the “Baby Boomer” generation, the awardee will address various “multi-generational” management and supervisory issues.

2. Correctional workplace or correctional workers will refer to settings/employees in prisons, jails, halfway houses, parole and probation agencies, etc. The correctional workplace will be defined in broad terms and all references in the training materials should be equally applicable to prisons, jails, and community corrections settings.

3. The developed materials should be equally relevant to all correctional workers whether they are correctional captains, nursing supervisors or chief parole agents among others. All training materials should be generic and human resource focused for the correctional profession.

4. There are many current resources, such as publications, videotapes, and training materials which have been developed in areas relating to the multi-generational workforce or specific generational groups such as Generation X and Baby Boomers. The award recipient will be expected to have knowledge of an fully utilize these resources.

5. The award recipient should identify appropriate training videotapes that can be included in training packages and obtain any necessary releases for use of those tapes. It is not expected that the awardee would develop their own audiovisual materials, however no application is prohibited from doing that within the cost allowance of this award.

6. The applicant must propose a project team which is comprised of human resource/training expertise, at least some of whom have a knowledge of generational differences, as well as correctional operations and training expertise.

7. Individual examples/illustrations can be used—but care should be given to assuring that various disciplines in the correctional environment as well as the various components of the corrections systems are included.

8. The person designated as project director needs to be the person who will manage the project on a day-to-day basis and who has full decision—making authority to work with the NIC project manager. This person must have enough time dedicated to the project to assure they are available to direct the day-to-day activities of the project and to be available for collaboration with the NIC project manager.

9. Applicants should identify in the proposal specific strategies for assuring a collaborative effort between their project team and NIC.

Application Requirements

Applications must be submitted using OMB Standard Form 424, Federal Assistance, and attachments. The applications should be concisely written, typed doubled-spaced, and referenced to the project by the number and title given in the this cooperative agreement announcement.

The narrative portion of this cooperative agreement application should include, at a minimum:

1. A brief paragraph that indicates the applicant's understanding of the purpose of the three (3) training programs/modules;

2. One or more paragraphs to detail the applicants understanding of the workforce characteristics of the primary generational groups;

3. A brief paragraph that summarizes the project goals and objectives;

4. A clear description of the methodology that will be used to complete the project and achieve its goals;

5. A clearly developed and detailed Project Plan which demonstrates how the various goals and objectives of the project will be achieved through its various activities so as to produce the required results;

6. A chart of measurable project milestones and time lines for the completion of each;

7. A description of the qualifications of the applicant organization and the relevant knowledge, skills and abilities of all project staff;

8. A description of the staffing plan for the project, including the role of each project staff, the time commitment for each, the relationship among the staff (who reports to whom), and a statement from individual staff that they will be available to work on this project;

9. A budget that details all costs for the project, shows consideration for all contingencies for this project, and notes a commitment to work within the budget proposed (budget should be divided into object class categories as shown on application Standard Form 424A). A budget narrative must be included which explains how all cost were determined.

The project must be completed within one year of its award date.

Authority: Public Law 93-415.

Funds Available: The award will be limited to a maximum of $100,000 (direct and indirect costs). Funds may only be used for the activities that are linked to the desired outcome of the project. No funds are transferred to state or local governments. This project will be a collaborative venture with the NIC Prisons Division.

Application Procedures: Applications must be submitted in six copies to the Director, National Institute of Corrections, 320 First Street, NW., Room 5007, Washington, DC 20534. At least one copy of the application must have the applicant's original signature in blue ink. A cover letter must identify the responsible audit agency for the applicant's financial accounts.

Deadline for Receipt of Applications: Applications must be received by 4:00 p.m. Eastern Daylight Time on Wednesday, June 5, 2002. They should be addressed to Director, National Institute of Corrections, 320 First Street, NW., Room 5007, Washington, DC 20534. The NIC application number should be written on the outside of the mail or courier envelope. Applicants are encouraged to use Federal Express, UPS, or similar service to ensure delivery by due date as the mail at the National Institute of Corrections is still being delayed due to decontamination procedures implemented after recent events. Applications mailed or express delivery should be sent to: National Institute of Corrections, 320 First Street, NW., Room 5007, Washington, DC 20534, Attn: Director. Hand delivered applications can be brought to 500 First Street, NW., Washington, DC 20534. The security officer will call our front desk at (202) 307-3106 to come to the security desk for pickup. Faxed or e-mailed applications will not be accepted.

Addresses and Further Information: A copy of this announcement and applications forms may be obtained through the NIC Web site: http.//www.nicic.org (click on “Cooperative Agreements”). Requests for a hard copy of the applications, forms, and announcement should be directed to Judy Evens, Cooperative Agreement Control Office, National Institute of Corrections, 320 First Street, NW., Room 5007, Washington, DC 20534 or by calling (800) 995-6423, extension 44222 or (202) 307-3106, extension 44222. She can also be contacted by e-mail via jevens@bop.gov.

All technical and or programmatic questions concerning this announcement should be directed to BeLinda P. Watson at the above address or by calling (800) 995-6423, extension 30483 or (202) 353-0483, or by e-mail via bpwatson@bop.gov.

Eligibility Applicants: An eligible applicant is any state or general unit of local government, private agency, educational institution, organization, individuals or team with expertise in the requested areas.

Review Considerations: Applications received under this announcement will be subjected to a 3 to 5 person NIC Peer Review Process.

Number of Awards: One (1).

NIC Application Number: 02P06. This number should appear as a reference line in the cover letter and also in box 11 of Standard Form 424 and outside of the envelope in which the application is sent.

Executive Order 12372

This program is not subject to the provisions of Executive Order 12372.

The Catalog of Federal Domestic Assistance number is: 16.61.
Dated: April 18, 2002.
Morris L. Thigpen,
Director, National Institute of Corrections.

[FR Doc. 02-10256 Filed 4-25-02; 8:45 am]

BILLING CODE 4410-36-M